DEPARTMENT OF LABOR

Occupational Safety and Health Administration

[Docket No. ICR-1218-0222(2002)]

Derricks Standard; Extension of the Office of Management and Budget's (OMB) Approval of Information-Collection (Paperwork) Requirements

AGENCY: Occupational Safety and Health Administration (OSHA), Labor.

ACTION: Request for comment.

SUMMARY: OSHA solicits comment concerning its proposal to extend OMB approval of the information-collection requirements specified by its general industry Derricks Standard (29 CFR 110.181). The paperwork provisions of this Standard specify requirements for maintaining or posting load and capacity information and for developing, maintaining, and disclosing inspection records for ropes used on derricks. The purpose of each of these requirements is to prevent employees from using derricks beyond their rated load and capacity and from using unsafe ropes, thereby, reducing their risk of death or serious injury cased by a derrick component or rope failure.

DATES: Submit written comments on or before August 5, 2002.

ADDRESSES: Submit written comments to the Docket Office, Docket No. ICR-1218-0222(2002), OSHA, U.S. Department of Labor, Room N-2625, 200 Constitution Avenue, NW., Washington, DC 20210; telephone: (202) 693-2350. Commenters may transmit written comments of 10 pages or less by facsimile to (202) 693-1648.

FOR FURTHER INFORMATION CONTACT: Theda Kenney, Directorate of Safety Standards Programs, OSHA, U.S. Department of Labor, Room N-3609, 200 Constitution Avenue, NW., Washington, DC 20210; telephone: (202) 693-2222. A copy of the Agency's Information-Collection Request (ICR) supporting the need for the information collections specified by the Derricks Standard is available for inspection and copying in the Docket Office, or by requesting a copy from Todd Owen at (202) 693-2444. For electronic copies of the ICR contact OSHA on the Internet at http://www.osha.gov/comp-links.html, and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and cost) is minimal, collection instruments are understandable, and OSHA's estimate of the information-collection burden is correct.

The Derricks Standard specifies two paperwork requirements. The following sections describe who uses the information collected under each requirements, as well as how they use it. The purpose of these requirements is to prevent death and serious injuries to employees by ensuring that the derrick is not used to lift loads its rated capacity and that all the ropes are inspected for wear and tear.

• Marking the Rated Load (paragraph (c)). Paragraph (c)(1) requires that for permanently installed derricks a clearly legible rating chart be provided with each derrick and securely affixed to the derrick. Paragraph (c)(2) requires that for non-permanent installations, the manufacturer provide sufficient information from which capacity charts can be prepared by the employer for the particular installation. The capacity charts must be located at the derrick or at the jobsite office. The data on the capacity charts provide information to the employees to assure that the derricks are used as designed and not overloaded or used beyond the range specified in the charts.

• Certification Records of Rope Inspections (paragraph (g)). Paragraph (g)(1) requires employers to thoroughly inspect all running rope in use, and to do so at least once a month. In addition, before using rope which has been idle for at least a month, it must be inspected as prescribed by paragraph (g)(3) and a record prepared to certify that the inspection was done. The certification records must include the inspection date, the signature of the person conducting the inspection, and the identifier of the rope inspected. Employers must keep the certification records on file and available for inspection. The certification records provide employers, employees, and OSHA compliance officers with assurance that the ropes are in good condition.

II. Special Issues for Comment

OSHA has a particular interest in comments on the following issues:

• Whether the proposed information-collection requirements are necessary for the proper performance of the Agency's functions, including whether the information is useful;

• The accuracy of OSHA's estimate of the burden (time and costs) of the information-collection requirements, including the validity of the methodology and assumptions used;

• The quality, utility, and clarity of the information collected; and

• Ways to minimize the burden on employers who must comply; for example, by using automated or other technological information-collection and -transmission techniques.

III. Proposed Actions

OSHA proposes to extend the Office of Management and Budget's (OMB) approval of the collection-of-information requirements specified by its Derricks Standard (29 CFR 1910.181). The Agency will summarize the comments submitted in response to this notice, and will include this summary in its request to OMB to extend the approval of these information-collection requirements.

Type of Review: Extension of a currently information-collection requirement.

Title: Derricks Standard (29 CFR 1910.181).

OMB Number: 1218-0222.

Affected Public: Business or other for-profit; not-for-profit institutions; Federal government; State, local, or tribal governments.

Number of Respondents: 10,000.

Frequency of Recordkeeping: On occasion; monthly.

Average Time per Response: Varies from 3 minutes (.05 hour) to post or keep information to 15 minutes (.25 hour) to inspect rope and to prepare, maintain, and disclose a certification record.

Total Annual Hours Requested: 28,530.

Total Annual Costs (O&M): $0.

IV. Authority and Signature

John L. Henshaw, Assistant Secretary of Labor for Occupational Safety and Health, directed the preparation of this notice. The authority for this notice is the Paperwork Reduction Act of 1995 (44 U.S.C. 3506), and Secretary of Labor's Order No. 3-2000 (65 FR 50017).

Signed at Washington, DC, on May 30, 2002.
John L. Henshaw,
Assistant Secretary of Labor.

[FR Doc. 02-14066 Filed 6-4-02; 8:45 am]

BILLING CODE 4510-26-M